DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 12, 2010. Address written comments to Statutory Import Programs Staff, Room 3720, U.S. Department of Commerce, Washington, DC 20230. Applications may be examined between 8:30 a.m. and 5 p.m. at the U.S. Department of Commerce in Room 3720.

Docket Number: 10-055. Applicant: National Institutes of Health, 49 Convent Drive MSC 4480, Bldg. 49, Rm 5W14, Bethesda, MD 20892. Instrument: Electron Microscope. Manufacturer: JEOL Limited, Japan. Intended Use: The instrument will be used to study primarily neurological tissue and cells from mice, zebrafish, and fruit flies. The properties of the materials being investigated are those of a biological nature, which require a very high resolution. Justification for Duty-Free Entry: There are no instruments of the same general category manufactured in the United States. Application accepted by Commissioner of Customs: August 20, 2010.

Docket Number: 10-056. Applicant: University of Notre Dame, Procurement Services 709 Grace Hall Notre Dame, Indiana 46556. Instrument: Electron Microscope. Manufacturer: FEI Company, the Netherlands. Intended Use: The instrument will be used in bio-geochemical and bio-engineering research. Many of the processes of interest are at or near the nano-scale so the instrument is important for the analysis of structures and compositions. Some projects can only be accomplished with the improved resolution and analytical capabilities of the instrument. Justification for Duty-Free Entry: There are no instruments of the same general category manufactured in the United States. Application accepted by Commissioner of Customs: September 1, 2010.

Docket Number: 10-057. Applicant: Curators of the University of Missouri, 1201 N. State St. G5C Campus Support Facility Rolla, MO 56049. Instrument: Electron Microscope. Manufacturer: FEI Company, the Netherlands. Intended Use: The instrument will be used to investigate carbon/nitrogen effects on steel lattice parameters, atomic abruptness of electrochemically produced metal/metal oxide layers, orientation relationships and defects in friction stir processed metal alloys, and nanoparticle size, shape and chemistry on PEM fuel cell porous membranes. Justification for Duty-Free Entry: There are no instruments of the same general category manufactured in the United States. Application accepted by Commissioner of Customs: August 20, 2010.

Docket Number: 10-058. Applicant: SUNY Upstate Medical University. Instrument: Electron Microscope. Manufacturer: JEOL, Ltd., Japan. Intended Use: The instrument will be used to observe changes in ultrastructure of cytoskeletal and membrane elements of cells as a result of specific mutations or diseases states. Justification for Duty-Free Entry: There are no instruments of the same general category manufactured in the United States. Application accepted by Commissioner of Customs: August 23, 2010.

Dated: September 15, 2010.
Gregory W. Campbell,
Acting Director, IA Subsidies Enforcement Office.

[FR Doc. 2010-23716 Filed 9-21-10; 8:45 am]

BILLING CODE 3510-DS-P